DEPARTMENT OF DEFENSE

Office of the Secretary

[Transmittal No. 15-79]

36(b)(1) Arms Sales Notification

AGENCY: Defense Security Cooperation Agency, Department of Defense,

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-79 with attached Policy Justification.

Dated: December 17, 2015.
Aaron Siegel,
Alternate OSD Federal Register Liaison Officer, Department of Defense.

BILLING CODE 5001-06-P

BILLING CODE 5001-06-C

Transmittal No. 15-79

Notice of Proposed Issuance of Letter of Offer Pursuant to Section 36(b)(l) of the Arms Export Control Act, as amended

(i) Prospective Purchaser: Government of Argentina.

(ii) Total Estimated Value:

Major Defense Equipment * | $ 0 million
Other | $80 million
TOTAL | $80 million

(iii) Description and Quantity or Quantities of Articles or Services under Consideration for Purchase:

Non-Major Defense Equipment (MDE): Included in this possible sale are four (4) Bell 412EP Helicopters, Bell 412EP helicopter major components, spare parts, tools, publications, pilot and maintenance training, preparation of the aircraft for shipment, ground support equipment, and U.S. Government technical assistance.

(iv) Military Department: Army (UYA).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: 17 NOV 2015.

* As defined in Section 47(6) of the Arms Export Control Act.

Policy Justification

Argentina—Bell 412EP Helicopters

The Government of Argentina requested a possible sale of four (4) Bell 412EP Helicopters, Bell 412EP Helicopter major components, spare parts, tools, publications, pilot and maintenance training, preparation of the aircraft for shipment, ground support equipment, and U.S. Government technical assistance. The estimated cost is $80 million.

The proposed sale will contribute to the foreign policy and national security of the United States by providing Argentina with air mobility capabilities to support various missions, including humanitarian assistance and peacekeeping. This potential sale will provide additional opportunities for bilateral engagements and further strengthen the bilateral relationship between the United States and Argentina.

The Government of Argentina intends to use these aircraft for search and rescue operations, humanitarian assistance and disaster relief, peacekeeping support, scientific operations in the Antarctic, and other missions. The proposed sale will improve Argentina's standardization of operational procedures, logistics, and associated maintenance and augment its current inventory of U.S.-origin utility helicopters. Argentina will have no difficulty absorbing these helicopters into its armed forces.

The proposed sale of this equipment and support will not alter the basic military balance in the region.

The prime contractor will be Bell Helicopter Textron Inc., in Fort Worth, Texas. There are no known offset agreements proposed in connection with this potential sale.

A sole source has been requested for the original equipment manufacturer, Bell Helicopter Textron, Fort Worth, Texas.

There will be no adverse impact on United States defense readiness as a result of this proposed sale.

[FR Doc. 2015-32224 Filed 12-22-15; 8:45 am]

BILLING CODE 5001-06-P